ENVIRONMENTAL PROTECTION AGENCY

[EPA-HQ-OW-2008-0150; FRL-9989-51-OEI]

Information Collection Request Submitted to OMB for Review and Approval; Comment Request; Establishing No-Discharge Zones (NDZs) Under Clean Water Act Section 312 (Renewal)

AGENCY: Environmental Protection Agency (EPA).

ACTION: Notice.

SUMMARY: The Environmental Protection Agency (EPA) has submitted an information collection request (ICR), Establishing No-Discharge Zones (NDZs) under Clean Water Act § 312 (EPA ICR No. 1791.08, OMB Control No. 2040-0187), to the Office of Management and Budget (OMB) for review and approval in accordance with the Paperwork Reduction Act. This action is a proposed extension of the ICR, which is currently approved through March 31, 2019. Public comments were previously requested via the Federal Register on September 11, 2018 during a 60-day comment period. This notice allows for an additional 30 days for public comments. A fuller description of the ICR is given below, including its estimated burden and cost to the public. An agency may not conduct, or sponsor and a person is not required to respond to a collection of information unless it displays a currently valid OMB control number.

DATES: Additional comments may be submitted on or before April 15, 2019.

ADDRESSES: Submit your comments, referencing Docket ID Number EPA-HQ-OW-2008-0150, to (1) EPA online using www.regulations.gov (our preferred method), by email to OW-Docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Virginia Fox-Norse, Oceans, Wetlands and Communities Division, Office of Wetlands, Oceans and Watersheds, (4504T), Environmental Protection Agency, 1200 Pennsylvania Ave. NW, Washington, DC 20460; telephone number: 202-566-1266; fax number: 202-566-1337; email address: fox-norse.virginia@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: (A) Sewage No-Discharge Zones: CWA section 312(f) and the implementing regulations in 40 CFR 140 provide that information must be submitted to the EPA to establish a no-discharge zone (NDZ) for vessel sewage in state waters. No-discharge zones can be established to provide greater environmental protection of specified state waters from treated and untreated vessel sewage. This ICR addresses the information requirements associated with the establishment of NDZs for vessel sewage. The information collection activities discussed in this ICR do not require the submission of any confidential information.

(B) Uniform National Discharge Standards (UNDS) No-Discharge Zones and Discharge Determination or Standard Review: CWA section 312(n)(7) and the implementing regulations in 40 CFR 1700 provide that information should be submitted to the EPA to establish a no-discharge zone in state waters for a particular discharge from a vessel of the Armed Forces. In addition, CWA section 312(n)(5) provides that that the Governor of any state may petition the EPA and the Department of Defense (DoD) to review any discharge determination or standard promulgated under CWA section 312 for vessels of the Armed forces if there is significant new information that could reasonably result in a change to the discharge determination or standard. This ICR addresses the information requirements associated with the establishment of an UNDS NDZ for a particular discharge from a vessel of the Armed Forces in addition to the information requirements associated with a request to the EPA and DoD to review a discharge determination or standard. UNDS NDZs for a particular discharge from a vessel of the Armed Forces cannot be requested or established until after the EPA and DoD promulgate vessel discharge performance standards for marine pollution control devices for that particular discharge and DoD promulgates the corresponding regulations governing the design, construction, installation and use of marine pollution control devices for that particular discharge. The information collection activities discussed in this ICR do not require the submission of any confidential information.

Form Numbers: None.

Respondents/affected entities: States.

Respondent's obligation to respond: The responses to this collection of information are required for a state to obtain a sewage NDZ (CWA section 312(f)) and required to obtain an UNDS NDZ or a review of an UNDS discharge determination or standard (CWA section 312(n)).

Estimated number of respondents:13 (total).

Frequency of response: One time.

Total estimated burden: 914 hours (per year). Burden is defined at 5 CFR 1320.03(b).

Total estimated cost: $12,501 (per year), includes $848 annualized capital or operation & maintenance costs.

Changes in the Estimates: There is a decrease of 169 hours in the total estimated respondent burden compared with the ICR currently approved by OMB. This estimated decrease is attributable to a downward adjustment in the estimated number of anticipated total actions during the upcoming 3-year period.

Courtney Kerwin,
Director, Regulatory Support Division.

[FR Doc. 2019-04797 Filed 3-14-19; 8:45 am]

BILLING CODE 6560-50-P